DEPARTMENT OF ENERGY

Federal Energy Regulatory Commission

Combined Notice of Filings

Take notice that the Commission has received the following Natural Gas Pipeline Rate and Refund Report filings:

Filings Instituting Proceedings

Docket Numbers: RP15-189-000.

Applicants: Mojave Pipeline Company, L.L.C.

Description: § 4(d) rate filing per 154.403(d)(2): Annual FL&U Filing Effective January 1, 2015 to be effective 1/1/2015.

Filed Date: 11/20/14.

Accession Number: 20141120-5072.

Comments Due: 5 p.m. ET 12/2/14.

Docket Numbers: RP15-190-000.

Applicants: Texas Eastern Transmission, LP.

Description: § 4(d) rate filing per 154.204: Negotiated Rate eff 11-1-2015 for NJNG Contract 910230 to be effective 11/1/2015.

Filed Date: 11/20/14.

Accession Number: 20141120-5077.

Comments Due: 5 p.m. ET 12/2/14.

Docket Numbers: RP15-191-000.

Applicants: Colorado Interstate Gas Company, L.L.C.

Description: § 4(d) rate filing per 154.403(d)(2): FL&U to be effective January 1, 2015 to be effective 1/1/2015.

Filed Date: 11/20/14.

Accession Number: 20141120-5111.

Comments Due: 5 p.m. ET 12/2/14.

Docket Numbers: RP15-192-000.

Applicants: Enable Gas Transmission, LLC.

Description: § 4(d) rate filing per 154.204: Negotiated Rate Filing—Eff November 20, 2014—LER 8744 to be effective 11/20/2014.

Filed Date: 11/20/14.

Accession Number: 20141120-5144.

Comments Due: 5 p.m. ET 12/2/14.

Docket Numbers: RP15-193-000.

Applicants: Natural Gas Pipeline Company of America.

Description: § 4(d) rate filing per 154.204: Tenaska's Negotiated Rate to be effective 11/21/2014.

Filed Date: 11/20/14.

Accession Number: 20141120-5196.

Comments Due: 5 p.m. ET 12/2/14.

Docket Numbers: RP15-194-000.

Applicants: Southern Star Central Gas Pipeline, Inc.

Description: Compliance filing per 154.203: Annual Operational Flow Order Report.

Filed Date: 11/21/14.

Accession Number: 20141121-5040.

Comments Due: 5 p.m. ET 12/3/14.

Docket Numbers: RP15-195-000.

Applicants: Young Gas Storage Company, Ltd.

Description: § 4(d) rate filing per 154.403(d)(2): Annual Fuel Reimbursement Percentage Update Filing to be effective 1/1/2015.

Filed Date: 11/21/14.

Accession Number: 20141121-5063.

Comments Due: 5 p.m. ET 12/3/14.

Docket Numbers: RP15-196-000.

Applicants: Iroquois Gas Transmission System, L.P.

Description: § 4(d) rate filing per 154.204: 11/21/14 Negotiated Rates—Mercuria Energy Gas Trading LLC (HUB) 7540-89 to be effective 12/1/2014.

Filed Date: 11/21/14.

Accession Number: 20141121-5076.

Comments Due: 5 p.m. ET 12/3/14.

Docket Numbers: RP15-197-000.

Applicants: Ruby Pipeline, L.L.C.

Description: § 4(d) rate filing per 154.403(d)(2): FL&U effective January 1, 2015 to be effective 1/1/2015.

Filed Date: 11/21/14.

Accession Number: 20141121-5158.

Comments Due: 5 p.m. ET 12/3/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-127-001.

Applicants: Viking Gas Transmission Company.

Description: Tariff Amendment per 154.205(b): Non-Conforming Agreement AF0022—Wisconsin Gas, LLC to be effective 11/1/2014.

Filed Date: 11/21/14.

Accession Number: 20141121-5217.

Comments Due: 5 p.m. ET 12/3/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2014.
Nathaniel J. Davis, Sr.,
Deputy Secretary.

[FR Doc. 2014-28430 Filed 12-2-14; 8:45 am]

BILLING CODE 6717-01-P